DEPARTMENT OF LABOR

Employment and Training Administration

Comment Request for Information Collection for OMB 1205-0051, ETA 902 Disaster Unemployment Assistance Activities; Extension Without Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the proposed extension for collection of data on the ETA 902 report, Disaster Unemployment Assistance Activities under the Robert T. Stafford Disaster Relief and Emergency Assistance Act. The current expiration date is September 30, 2014.

DATES: Written comments must be submitted to the office listed in the addresses section below on or before May 19, 2014.

ADDRESSES: Submit written comments to Jeffery Haluska, Office of Unemployment Insurance, Employment and Training Administration, U.S. Department of Labor, 200 Constitution Avenue NW., Washington, DC 20210. Telephone number: 202-693-2992 (this is not a toll-free number). Individuals with hearing or speech impairments may access the telephone number above via TTY by calling the toll-free Federal Information Relay Service at 1-877-889-5627 (TTY/TDD). Email: Haluska.Jeffery.B@dol.gov. A copy of the proposed information collection request (ICR) can be obtained by contacting the person listed above.

SUPPLEMENTARY INFORMATION:

I. Background

The ETA 902 Report, Disaster Unemployment Assistance Activities, is a monthly report submitted by an impacted state when a major disaster is declared by the President that provides for individual assistance (including Disaster Unemployment Assistance (DUA)). The report contains data on DUA claims and payment activities associated with administering the DUA program. The information is used by ETA's Office of Unemployment Insurance (OUI) to determine workload counts, for example, the number of individuals determined eligible or ineligible for DUA, the number of appeals filed, and the number of overpayments issued. The report also allows OUI to track states' administrative costs for the DUA program.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without revision.

Title: Disaster Unemployment Assistance Activities Report.

OMB Number: 1205-0051.

Affected Public: State Workforce Agencies.

Estimated Total Annual Respondents: 30.

Annual Frequency: Approximate six (6) months per year.

Estimate Total Annual Responses: 180 responses.

Average Time per Response: One (1) hour.

Estimated Total Annual Burden Hours: 180 hours.

Total Estimated Annual Other Cost Burden: $0.

Comments submitted in response to this comment request will be summarized and/or included in the request for OMB approval of the ICR; they will also become a matter of public record.

Dated: March 12, 2014.
Eric M. Seleznow,
Acting Assistant Secretary for Employment and Training, Labor.

[FR Doc. 2014-06129 Filed 3-19-14; 8:45 am]

BILLING CODE 4510-FW-P